DEPARTMENT OF ENERGY

Federal Energy Regulatory Commission

[Project No. 15151-000]

City of North Little Rock; Notice of Preliminary Permit Application Accepted for Filing and Soliciting Comments, Motions To Intervene, and Competing Applications

On June 11, 2021, the City of North Little Rock filed an application for a preliminary permit, pursuant to section 4(f) of the Federal Power Act, proposing to study the feasibility of the David D. Terry Lock & Dam Hydroelectric Project No. 15151-000 (David D. Terry Project, or project), a run-of-river project to be located in Pulaski County, Arkansas. The sole purpose of a preliminary permit, if issued, is to grant the permit holder priority to file a license application during the permit term. A preliminary permit does not authorize the permit holder to perform any land-disturbing activities or otherwise enter upon lands or waters owned by others without the owners' express permission.

The proposed project would consist of the following: (1) An existing, 4,710-acre reservoir at a maximum water surface elevation of 231.3 feet mean sea level; (2) an existing lock and dam, including a spillway section; (3) a new headrace intake channel; (4) a new concrete powerhouse housing the turbine-generator unit(s); (5) a new discharge penstock; (6) a new tailrace receiving flow from the penstock; (7) a new, 8-mile-long interconnection line to an existing, 69 kilo-Volt substation; and (8) appurtenant facilities. The estimated annual generation of the project would be 128 gigawatt-hours.

Applicant Contact: Scott Springer, 1400 W Maryland Ave., North Little Rock, Arkansas, 72118; phone: (501) 372-0100.

FERC Contact: Navreet Deo; phone: (202) 502-6304; email: navreet.deo@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15151-000.

More information about this project, including a copy of the application, can be viewed or printed on the “eLibrary” link of Commission's website at http://www.ferc.gov/docs-filing/elibrary.asp. Enter the docket number (P-15151) in the docket number field to access the document. For assistance, contact FERC Online Support.

Dated: September 13, 2021.
Kimberly D. Bose,
Secretary.

[FR Doc. 2021-20134 Filed 9-16-21; 8:45 am]

BILLING CODE 6717-01-P